DEPARTMENT OF COMMERCE

International Trade Administration

[A-351-824]

Silicomanganese from Brazil: Revocation of Antidumping Duty Order

AGENCY: Import Administration, International Trade Administration, Department of Commerce.

SUMMARY: As a result of the determination by the International Trade Commission (the ITC) that revocation of the antidumping duty (AD) order on silicomanganese from Brazil would not be likely to lead to the continuation or recurrence of material injury to an industry in the United States, the Department of Commerce (the Department) is revoking this AD order.

DATES: Effective Date: September 14, 2011.

FOR FURTHER INFORMATION CONTACT: Bryan Hansen or Minoo Hatten, AD/CVD Operations, Import Administration, International Trade Administration, U.S. Department of Commerce, 14th Street and Constitution Avenue NW., Washington, DC 20230; telephone: (202) 482-1690 or (202) 482-3683 respectively.

SUPPLEMENTARY INFORMATION:

Background

On August 1, 2011, the Department initiated and the ITC instituted sunset reviews of the AD orders on silicomanganese from Brazil, the PRC, and Ukraine pursuant to sections 751(c) and 752 of the Tariff Act of 1930, as amended (the Act).¹ As a result of its reviews, the Department found that revocation of the AD orders would likely lead to continuation or recurrence of dumping and notified the ITC of the margins of dumping likely to prevail were the orders revoked.²

¹ See Initiation of Five-Year (“Sunset”) Review, 76 FR 45778 (August 1, 2011) and Silicomanganese From Brazil, China, and Ukraine Institution of a Five-Year Review Concerning the Antidumping Duty Orders on Silicomanganese From Brazil, China, and Ukraine, 76 FR 45856 (August 1, 2011).

² See Silicomanganese From Brazil, the People's Republic of China, and Ukraine: Final Results of the Expedited Third Sunset Reviews of the Antidumping Duty Orders, 76 FR 73587 (November 29, 2011).

On October 31, 2012, the ITC published its determination, pursuant to section 751(c) of the Act, that revocation of the AD order on silicomanganese from Brazil would not be likely to lead to the continuation or recurrence of material injury within a reasonably foreseeable time.³

³ See Silicomanganese From Brazil, China, and Ukraine, 77 FR 65906 (October 31, 2012). See also Silicomanganese from Brazil, China, and Ukraine (Inv. Nos. 731-TA-671-673 (Third Review), USITC Publication 4354, October 2012).

Scope of the Order

The merchandise covered by the order is silicomanganese. Silicomanganese, which is sometimes called ferrosilicon manganese, is a ferroalloy composed principally of manganese, silicon and iron, and normally contains much smaller proportions of minor elements, such as carbon, phosphorus, and sulfur. Silicomanganese generally contains by weight not less than 4 percent iron, more than 30 percent manganese, more than 8 percent silicon, and not more than 3 percent phosphorous. All compositions, forms, and sizes of silicomanganese are included within the scope of the order, including silicomanganese slag, fines, and briquettes. Silicomanganese is used primarily in steel production as a source of both silicon and manganese.

Silicomanganese is currently classifiable under subheading 7202.30.0000 of the Harmonized Tariff Schedule of the United States (HTSUS). Some silicomanganese may also currently be classifiable under HTSUS subheading 7202.99.5040. The order covers all silicomanganese, regardless of its tariff classification. Although the HTSUS subheadings are provided for convenience and customs purposes, the written description of the order remains dispositive.

Determination

As a result of the determination by the ITC that revocation of the AD order would not be likely to lead to continuation or recurrence of material injury to an industry in the United States, pursuant to section 751(d)(2) of the Act, the Department is revoking the AD order on silicomanganese from Brazil. Pursuant to section 751(d)(2) of the Act and 19 CFR 351.222(i)(2)(i), the effective date of revocation is September 14, 2011 (i.e., the fifth anniversary of the effective date of publication in the Federal Register of the most recent notice of continuation of this order).⁴

⁴ See Silicomanganese from Brazil, Ukraine, and the People's Republic of China: Continuation of Antidumping Duty Orders, 71 FR 54272 (September 14, 2006).

The Department will notify U.S. Customs and Border Protection, 15 days after publication of this notice, to terminate suspension of liquidation and collection of cash deposits on entries of the subject merchandise, entered or withdrawn from warehouse, on or after September 14, 2011. Entries of subject merchandise prior to the effective date of revocation will continue to be subject to suspension of liquidation and antidumping duty deposit requirements.

This notice also serves as the only reminder to parties subject to administrative protective order (APO) of their responsibility concerning the return/destruction or conversion to judicial protective order of proprietary information disclosed under APO in accordance with 19 CFR 351.305(a)(3). Failure to comply is a violation of the APO which may be subject to sanctions.

This five-year (sunset) review and notice are in accordance with section 751(d)(2) of the Act and published pursuant to section 777(i)(1) of the Act.

Dated: November 1, 2012.
Paul Piquado,
Assistant Secretary for Import Administration.

[FR Doc. 2012-27285 Filed 11-6-12; 8:45 am]

BILLING CODE 3510-DS-P